SOCIAL SECURITY ADMINISTRATION

[Docket No. SSA-2008-0044]

Agreement on Social Security Between the United States and Denmark; Entry Into Force

AGENCY: Social Security Administration (SSA).

ACTION: Notice.

SUMMARY: The Commissioner of Social Security gives notice that an agreement coordinating the United States (U.S.) and Danish social security programs will enter into force on October 1, 2008. The agreement with Denmark, which was signed on June 13, 2007, is similar to U.S. social security agreements already in force with 21 other countries—Australia, Austria, Belgium, Canada, Chile, Finland, France, Germany, Greece, Ireland, Italy, Japan, Korea (South), Luxembourg, the Netherlands, Norway, Portugal, Spain, Sweden, Switzerland and the United Kingdom. Agreements of this type are authorized by section 233 of the Social Security Act (42 U.S.C. 433).

Like the other agreements, the U.S.-Danish agreement eliminates dual social security coverage—the situation that exists when a worker from one country works in the other country and is covered under the social security systems of both countries for the same work. Without such agreements in force, when dual coverage occurs, the worker, the worker's employer, or both may be required to pay social security contributions to the two countries simultaneously. Under the U.S.-Danish agreement, a worker who is sent by an employer in the U.S. to work in Denmark for 5 years or less remains covered only by the U.S. social security program. Similarly, a worker who is sent by an employer in Denmark to work in the U.S. for 3 years or less remains covered only by the Danish social security program. The agreement includes additional rules that eliminate dual U.S. and Danish coverage in other work situations.

The agreement also helps eliminate situations where workers suffer a loss of benefit rights because they have divided their careers between the two countries. Under the agreement, workers may qualify for partial U.S. benefits or partial Danish benefits based on combined (totalized) work credits from both countries.

Individuals who wish to obtain copies of the agreement or want more information about its provisions may write to the Social Security Administration, Office of International Programs, Post Office Box 17741, Baltimore, MD 21235-7741 or visit the Social Security Web site at http://www.socialsecurity.gov/international.

Dated: September 19, 2008.
Michael J. Astrue,
Commissioner of Social Security.

[FR Doc. E8-22667 Filed 9-25-08; 8:45 am]

BILLING CODE 4191-02-P